DEPARTMENT OF HEALTH AND HUMAN SERVICES

Centers for Disease Control and Prevention

[Program Announcement 03077]

Community-Based Interventions To Reduce Motor Vehicle-Related Injuries; Notice of Availability of Funds

Application Deadline: July 3, 2003.

A. Authority and Catalog of Federal Domestic Assistance Number

This program is authorized under sections 317, and 301 of the Public Health Service Act (42 U.S.C. 247b and 241). The Catalog of Federal Domestic Assistance number is 93.136.

B. Purpose

The Centers for Disease Control and Prevention (CDC) announces the availability of fiscal year (FY) 2003 funds for a cooperative agreement study to tailor, implement, and evaluate community-based interventions with demonstrated effectiveness to reduce motor vehicle-related injuries.

This study addresses the “Healthy People 2010” focus area of Injury and Violence Prevention.

“Healthy People 2010: Health Objectives for the Nation” has set an objective of reducing motor vehicle-related fatalities to no more than 9.2 per 100,000 persons from a baseline of 15.6 per 100,000 persons in 1998. To meet this objective, the nation must improve the safety of motor vehicle travel, community-by-community, state-by-state. Deterrence of alcohol-impaired driving and increasing the proper use of occupant restraints are among the most important measures to further reduce motor vehicle-related injuries and deaths.

The purpose of the study is to tailor, implement, and evaluate community-based interventions with demonstrated effectiveness for preventing motor vehicle-related injuries within the following areas: (1) Reduce alcohol-impaired driving among high risk groups; (2) increase safety belt use among low-use groups; and (3) increase the use of child safety seats, with an emphasis on booster seats.

In addition, the study should gather information on the process of tailoring and implementing evidence-based community interventions such as defining how the interventions were tailored, barriers to implementation, and how the various evaluation activities were undertaken.

This study will require the formation of coalitions of public health departments, transportation and traffic safety agencies, Governors' highway safety representatives, law enforcement, and academic evaluation experts. These coalitions will work with community leaders, groups, and organizations (e.g., policy makers, safety advocates, schools, youth organizations, local media, health care providers, and social service agencies) to tailor, implement, and evaluate at least two selected community-based interventions.

Measurable outcomes of the study will be in alignment with the following research priorities in transportation safety from the National Center for Injury Prevention and Control (NCIPC) Research Agenda: (1) Evaluate strategies to implement and disseminate known, effective interventions to reduce alcohol-impaired driving and test the effectiveness of new, innovative strategies; (2) develop and evaluate interventions that address the proper and consistent use of measures to protect child occupants in motor vehicles; (3) develop methodologies for and evaluate the effectiveness of various means to translate transportation safety research findings into public policy. The study is expected to widely disseminate the outcomes through traditional mechanisms, such as professional and peer-reviewed journal publications.

C. Eligible Applicants

Applications may be submitted by state or local health departments or their bona fide agents, including the District of Columbia, Commonwealth of Puerto Rico, Virgin Islands, Commonwealth of the Northern Marianna Islands, American Samoa, Guam, Federated States of Micronesia, Republic of the Marshall Islands, and Republic of Palau.

Other required eligibility criteria include the following:

1. The applicant should provide evidence that there is an unmet need in their community for these interventions. The intent of the study is not to support existing activities. This can be done by describing the target groups for the selected interventions and documenting the size of the problem in these groups.

2. The applicant should provide evidence of effective and well-defined collaborative relationships within the performing organization and among the coalition members that will ensure implementation of the proposed activities. At a minimum, the coalition must include the recipient state or local health department, a state or local highway safety department representative, the state Governor's highway safety representative or designee, local law enforcement, and a university-based evaluation expert. Documentation, such as letters of collaboration, describing the specific commitments and responsibilities that will be undertaken by the coalition members and community organizations must be included.

3. The applicant and its collaborative team should provide evidence of prior experience in tailoring, implementing, and evaluating community-based interventions. This experience must be documented by including publications such as those from peer-reviewed journal articles or technical reports in the appendix of the application.

4. The recipient should provide evidence of access to target populations and experience with accessing community leaders and community-level groups.

Note: Title 2 of the United States Code section 1611 states that an organization described in section 501(c)(4) of the Internal Revenue Code that engages in lobbying activities is not eligible to receive Federal funds constituting an award, grant or loan.

D. Funding

Availability of Funds

Approximately $450,000 is available in FY 2003 to fund approximately 2 awards. It is expected that the average award will be $225,000, ranging from $200,000 to $250,000. It is expected that the awards will begin on or about September 15, 2003, and will be made for a 12-month budget period within a project period of up to four years. Funding estimates may change.

Continuation awards within an approved project period will be made on the basis of satisfactory progress as evidenced by required reports and the availability of funds.

Funding Preferences

Applicants will be expected to implement and evaluate at least two community-based interventions with demonstrated effectiveness during the four-year project period. Preference will be given to applicants who propose implementing at least one community-based intervention from the following list of interventions that have strong evidence of effectiveness according to the “The Guide to Community Preventive Services”. (See www.thecommunityguide.org or Attachment 1. All Attachments referenced in this announcement are posted with the announcement on the CDC Web site.):

a. Sobriety checkpoints to reduce alcohol-impaired driving. Key components of the intervention: officer training in appropriate practices; implement or increase the frequency of sobriety checkpoints (or roving patrols if checkpoints are not feasible); develop a strategy for publicizing checkpoints through earned media (e.g., news stories) and/or paid media.

b. Enhanced enforcement campaigns to increase safety belt and child safety seat use. Key components of the intervention: Implement or increase the frequency of citations for violations of the law, safety belt and/or child safety seat checkpoints (or roving patrols if checkpoints are not feasible); develop a strategy for publicizing the enhanced enforcement efforts through earned media (e.g., news stories) and/or paid media.

c. Efforts to increase possession and use of child safety seats and booster seats. Key components of the intervention: Distribution of child safety seats and/or booster seats among low use groups; education on appropriate use.

Key components of the chosen interventions must be included in implementation.

Applicants may choose to implement one or more interventions with demonstrated effectiveness to reduce motor vehicle-related injuries that are not on the above list. Applicants who select interventions that are not included in the list above, but have been systematically reviewed in the peer-reviewed literature, must cite the review and summarize its findings in the application.

E. Program Requirements

In conducting activities to achieve the purpose of this program, the recipient will be responsible for the activities listed in 1. Recipient Activities, and CDC will be responsible for the activities listed in 2. CDC Activities.

1. Recipient Activities

a. Establish the coalition that will help tailor, implement, and evaluate the selected interventions. At a minimum, the coalition must include the recipient state or local health department, a state or local highway safety department representative, the state Governor's highway safety representative or designee, local law enforcement, and an evaluation expert or academic researcher who has published in the peer-review literature.

b. Collect or obtain and analyze baseline measures that will guide the planning process and serve as the pre-intervention measures of effectiveness (e.g., alcohol-related crashes, safety belt use, booster seat use).

c. If the recipient proposes to implement enhanced enforcement campaigns to increase safety belt use or to strengthen child safety seat laws or booster seat laws, the recipient must first determine baseline use rates for safety belts, child safety seats, and booster seats using, at a minimum, a comparison of observed use rates determined from observational surveys in the intervention and control communities before and after implementation of the intervention activities.

d. If the recipient proposes to implement sobriety checkpoints to reduce alcohol-impaired driving, the recipient must first determine rates of alcohol-impaired driving using appropriate survey methods before and after implementation of the intervention. Direct assessment of driver blood alcohol content levels in roadside surveys is the preferred method. However, an acceptable method for baseline measurement would be the number of pre- and post-intervention nighttime single vehicle crashes.

e. Develop a detailed plan for the tailoring of the intervention for their community, for implementation, and for evaluation of the selected evidence-based interventions to reduce motor vehicle-related injuries. Obtain approval for the plan from each coalition member and the CDC.

f. Implement and evaluate the selected interventions. Sufficient resources should be allocated for a rigorous evaluation.

g. Attend and participate in technical assistance, planning, and project briefing meetings coordinated by the CDC. (Travel to CDC for one meeting per year.)

h. Submit required reports on time.

Activities should be specifically tailored to stimulate community ownership and investment in sustaining the intervention, if effective, beyond the funding period. Collaboration with ongoing activities such as “Safe Communities” and existing coalitions such as “SAFE KIDS” is encouraged.

The first year of the study will include several activities: Establishing the coalition; evaluating the perceptions of stakeholders regarding barriers to implementation and perceived benefits of the intervention; collecting and analyzing baseline information (e.g., alcohol-related crashes, DUI arrests, safety belt use), and developing a detailed plan for implementing and evaluating two or more interventions.

At the end of Year I, noncompetitive continuation funding will be available for Year II, contingent upon successful progress in Year I and a detailed budget for implementing and evaluating the selected interventions. Years two through four will be dedicated to implementing, sustaining, and evaluating the selected interventions. The evaluation should include systematic and detailed process data regarding any unanticipated barriers that were encountered in implementing the interventions.

2. CDC Activities

a. Provide technical assistance and guidance in the tailoring, implementation, and evaluation of the selected interventions.

b. Review plans for the tailoring, implementation, and evaluation of the selected interventions.

c. Assist in ensuring human subjects assurances are in place as needed.

d. Assist in analysis and dissemination of results including the preparation of manuscripts.

e. Facilitate technical assistance and planning meetings and briefings to CDC.

F. Content

Letter of Intent (LOI)

A LOI is required for this program. The narrative should be no more than two single-spaced pages, printed on one side, with one-inch margins, and unreduced 12-point font. The letter should identify the announcement number, the name of the principal investigator, and briefly describe the scope and intent of the proposed study. The letter of intent does not influence review or funding decisions, but the number of letters received will enable CDC to plan the review more effectively and efficiently.

Application

The Program Announcement title and number must appear in the application. Use the information in the Program Requirements and Evaluation Criteria sections to develop the application content. Your application will be evaluated on the criteria listed, so it is important to follow them in laying out your program plan. The narrative portion of the application must not exceed 25 pages.

Applications should follow the PHS-5161 application and should include the following information:

1. The project's focus justifying the intervention needs and describing the scientific basis for the program, the expected outcome, and the relevance of the findings to reduce injury morbidity, mortality, disability, and economic losses.

2. Specific, measurable, and time-framed objectives.

3. A detailed plan describing the methods that will achieve the objectives, including their sequence.

4. A description of the roles and responsibilities of the principal investigator.

5. A description of all project staff regardless of their funding source. It should include their title, qualifications, experience, percentage of time each will devote to the project, as well as that portion of their salary to be paid by the cooperative agreement.

6. A description of those activities related to, but not supported by the cooperative agreement.

6. A description of those activities related to, but not supported by the cooperative agreement.

7. A description of the involvement of other entities that will relate to the proposed project, if applicable. It should include letters of organizational commitments of support and a clear statement of their roles.

8. A detailed budget for the cooperative agreement.

9. An explanation of how the research findings will contribute to the national effort to reduce the morbidity, mortality and disability caused by injuries.

A. Submission and Deadline

Letter of Intent (LOI) Submission

The LOI must be received by 4 p.m. eastern time on or before June 9, 2003. Submit the LOI to: Stephen Lester, Grants Management Specialist, Procurement and Grants Office, Centers for Disease Control and Prevention, 2920 Brandywine Road, Atlanta, GA 30341-4146. Telephone: 770-488-1998.

Application Forms

Submit the signed original and two copies of PHS-5161 application. Forms are available at the following Internet address: www.cdc.gov/od/pgo/forminfo.htm.

If you do not have access to the Internet, or if you have difficulty accessing the forms on-line, you may contact the CDC Procurement and Grants Office Technical Information Management Section (PGO-TIM) at: 770-488-2700.

Submission Date, Time, and Address

The application must be received by 4 p.m. eastern time July 3, 2003. Submit the application to: Technical Information Management—PA#03077, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

Eligible applications will be evaluated individually against the following criteria by an independent peer review special emphasis panel (SEP) appointed by CDC that will review the scientific merit of the applications. This will be the primary review of applications. These SEP reviewers will review all applications for scientific merit using current National Institutes of Health (NIH) criteria (a scoring system of 100-500 points) to evaluate the methods and scientific quality of the application. All categories are of equal importance, however, the application does not need to be strong in all categories to be judged likely to have a major scientific impact.

Factors to be considered will include:

1. Significance

Applicant has described how this study will advance scientific knowledge of how to tailor, implement, and evaluate community-based interventions for preventing motor vehicle-related injuries.

2. Approach (for Tailoring, Implementing, and Evaluating the Selected Interventions)

The extent to which the applicant's work plan and timetable includes:

a. The identification of representatives to be named as members of the coalition, including a description of the areas of expertise covered by each; the specific roles and responsibilities of each in implementing this cooperative agreement; methods for making decisions; etc.

b. Memorandum of agreement and understanding or letters of support from these collaborating organizations as an appendix, and the extent to which these letters indicate that the applicant and the other collaborating organizations have established a “working partnership” which specifies the active roles each will have in the study.

c. Plans for collecting or obtaining and analyzing baseline (pre-intervention) and follow-up data for the measures of effectiveness.

d. A description of the process used in selecting the interventions to be implemented.

e. A description of the process to be used in preparing the detailed plan for tailoring, implementing and evaluating the selected interventions.

f. Initial plans to rigorously evaluate the interventions including appropriate measures of effectiveness that will demonstrate the accomplishment of the identified objectives of the cooperative agreement. Measures should be objective and quantifiable and measure the intended outcome.

g. Plans to train and support staff regarding the responsibilities of this cooperative agreement, and the availability of staff and facilities to carry out this cooperative agreement.

h. Acknowledgement of potential problem areas and plans to consider alternative tactics.

3. Investigator

The extent to which the applicant has documented that the principal investigator is appropriately trained and well-suited to carry out the study.

4. Environment

The extent to which the applicant and proposed collaborators have documented:

a. Their history and current capacity to provide a leadership function in convening and facilitating the work of the coalition.

b. Their history and current capacity to provide a leadership function in the tailoring, implementation, and evaluation of the selected community-based interventions to reduce motor vehicle-related injuries.

c. Their history and current capacity to present findings at national conferences and prepare peer-reviewed manuscripts.

d. A willingness to attend and participate in technical assistance and planning meetings and related travel to Atlanta coordinated by the CDC for all cooperative agreement recipients.

e. Their organizational capacity to realize the objectives of the cooperative agreement.

f. Their management operation, structure and/or organization. An organizational chart of the applicant's organization should be included as an appendix. Additionally, the applicant should include within their management plan the specific role and mechanisms to be established to ensure effective coordination, communication and shared decision making among the involved agencies/organizations.

g. A staffing plan for the project, noting existing staff as well as additional staffing needs. The responsibilities of individual staff members including the level of effort and allocation of time for each project activity by staff position should be included. The specific staff positions within the other involved state level agencies, both in-kind and funded, should be described.

h. Resumes, biosketches, and/or position descriptions (i.e. for current staff, in-kind, and proposed positions to be funded under this cooperative agreement) should be included as an appendix. This should include the use of consultants, as appropriate.

i. A continuation plan in the event that key staff leave the project, how new staff will be smoothly integrated into the project, and assurances that resources will be available when needed for this project.

j. Previous experience of project staff to submit required reports on time.

5. Ethical Issues

What provisions have been made for the protection of human subjects and the safety of the research environments? How does the applicant plan to handle issues of confidentiality and compliance with mandated reporting requirements, (e.g., suspected child abuse)? Does the application adequately address the requirements of 45 CFR part 46 for the protection of human subjects? (An application can be disapproved if the research risks are sufficiently serious and protection against risks is so inadequate as to make the entire application unacceptable.) The degree to which the applicant has met the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with communities and recognition of mutual benefits. Is there evidence of effective working relationships between the applicant and community organizations? Does the applicant describe experience in developing community partnerships and the community's current and anticipated capacity to carry out the proposed activities?

6. Study Samples

Are the samples rigorously defined to permit complete independent replication at another site? Have the referral sources been described, including the definitions and criteria? What plans have been made to include women and minorities and their subgroups as appropriate for the scientific goals of the research? How will the applicant deal with recruitment and retention of subjects?

7. Dissemination

a. Plans to present findings to local, state, regional, and national audiences.

b. Plans to prepare peer-reviewed manuscripts based on the study.

8. Measures of Effectiveness

Are the measures set forth in the application in accordance with CDC's performance plans? How adequately has the applicant addressed these measures?

The SEP will also examine the appropriateness of the proposed study budget and duration in relation to the proposed research and the availability of data required for the study.

The secondary review will be conducted by the Science and Program Review Subcommittee (SPRS) of the Advisory Committee for Injury Prevention and Control (ACIPC). ACIPC Federal agency experts will be invited to attend the secondary review and will receive modified briefing books (i.e., abstracts, strengths and weaknesses from summary statements, and project officer's briefing materials). ACIPC Federal agency experts will be encouraged to participate in deliberations when applications address overlapping areas of research interest so that unwarranted duplication in federally funded research can be avoided and special subject area expertise can be shared. The NCIPC Division Associate Directors for Science (ADS) or their designees will attend the secondary review in a similar capacity as the ACIPC Federal agency experts to assure that research priorities of the announcement are understood and to provide background regarding current research activities. Only SPRS members will vote on funding recommendations, and their recommendations will be carried to the entire ACIPC for voting by the ACIPC members in closed session. If any further review is needed by the ACIPC, regarding the recommendations of the SPRS, the factors considered will be the same as those considered by the SPRS.

The subcommittee's responsibility is to develop funding recommendations for the NCIPC Director based on the results of the primary review, the relevance and balance of proposed research relative to the NCIPC programs and priorities, and to assure that unwarranted duplication of federally funded research does not occur. The secondary review committee has the latitude to recommend to the NCIPC Director, to reach over better ranked proposals in order to assure maximal impact and balance of proposed research. The factors to be considered will include:

1. The results of the primary review including the application's priority score as the primary factor in the selection process.

2. The relevance and balance of proposed research relative to the NCIPC programs and priorities.

3. The significance of the proposed activities in relation to the priorities and objectives stated in Healthy People 2010, the Institute of Medicine report, Reducing the Burden of Injury, and the NCIPC Injury Research Agenda.

4. Budgetary considerations including the extent to which the budget is reasonable, clearly justified, and consistent with the intended use of funds.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment II of the program announcement, as posted on the CDC Web site.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-13 Prohibition on Use of CDC Funds for Certain Gun Control Activities

AR-20 Conference Support

J. Where To Obtain Additional Information

This and other CDC announcements, the necessary applications, and associated forms can be found on the CDC Web site, Internet address: http://www.cdc.gov.

Click on “Funding” then “Grants and Cooperative Agreements”.

For general questions about this announcement, contact: Technical Information Management, CDC Procurement and Grants Office, 2920 Brandywine Road, Atlanta, GA 30341-4146. Telephone: 770-488-2700.

For business management and budget assistance, contact: Stephen Lester, Grants Management Specialist, CDC Procurement and Grants Office, Centers for Disease Control and Prevention, 2920 Brandywine Road, Atlanta, GA 30341-4146. Telephone: 770-488-1998. E-mail address: SVL3@cdc.gov.

For program technical assistance, contact: Tim Groza, MPA, Project Officer, National Center for Injury Prevention and Control, Centers for Disease Control and Prevention, 4770 Buford Highway NE, MS K-63, Atlanta, GA 30341-3724. Telephone: 770-4676. E-mail address: tgroza@cdc.gov.

Dated: May 13, 2003.
Sandra R. Manning,
Director, Procurement and Grants Office, Centers for Disease Control and Prevention.

[FR Doc. 03-12398 Filed 5-16-03; 8:45 am]

BILLING CODE 4163-18-P